DEPARTMENT OF ENERGY

Federal Energy Regulatory Commission

Combined Notice of Filings #1

Take notice that the Commission received the following exempt wholesale generator filings:

Docket Numbers: EG25-43-000.

Applicants: Wild Plains Wind Project, LLC.

Description: Wild Plains Wind Project, LLC submits Notice of Self-Certification of Exempt Wholesale Generator Status.

Filed Date: 11/21/24.

Accession Number: 20241121-5203.

Comment Date: 5 p.m. ET 12/12/24.

Take notice that the Commission received the following electric rate filings:

Docket Numbers: ER22-2467-001.

Applicants: ISO New England Inc., Eversource Energy Service Company (as agent), New England Power Company, Vermont Electric Power Company, Inc.

Description: Compliance filing: Eversource Energy Service Company (as agent) submits tariff filing per 35: Filing Providing Order No. 881 Implementation Details to be effective N/A.

Filed Date: 11/22/24.

Accession Number: 20241122-5048.

Comment Date: 5 p.m. ET 12/13/24.

Docket Numbers: ER22-2468-001.

Applicants: ISO New England Inc., New England Power Company, Vermont Electric Power Company, Inc., Eversource Energy Service Company (as agent).

Description: Compliance filing: ISO New England Inc. submits tariff filing per 35: Filing Providing Order No. 881 Implementation Details to be effective N/A.

Filed Date: 11/22/24.

Accession Number: 20241122-5049.

Comment Date: 5 p.m. ET 12/13/24.

Docket Numbers: ER24-2033-001.

Applicants: GridLiance High Plains LLC.

Description: Compliance filing: GHP Order 2023 Further Compliance Filing to be effective 9/1/2024.

Filed Date: 11/22/24.

Accession Number: 20241122-5047.

Comment Date: 5 p.m. ET 12/13/24.

Docket Numbers: ER24-2899-002.

Applicants: PJM Interconnection, L.L.C.

Description: Tariff Amendment: Amendment of ER25-2699-001 re: Amendment of GIA SA No. 7337; AF2-238 to be effective 7/29/2024.

Filed Date: 11/22/24.

Accession Number: 20241122-5040.

Comment Date: 5 p.m. ET 12/13/24.

Docket Numbers: ER25-509-000.

Applicants: FirstLight Power Management LLC.

Description: 205(d) Rate Filing: Normal filing 2024 to be effective 1/20/2025.

Filed Date: 11/21/24.

Accession Number: 20241121-5208.

Comment Date: 5 p.m. ET 12/12/24.

Docket Numbers: ER25-510-000.

Applicants: ISO New England Inc., New England Power Company.

Description: 205(d) Rate Filing: ISO New England Inc. submits tariff filing per 35.13(a)(2)(iii: New England Power d/b/a National Grid 2024 PBOP Refund to be effective 1/21/2025.

Filed Date: 11/22/24.

Accession Number: 20241122-5007.

Comment Date: 5 p.m. ET 12/13/24.

Docket Numbers: ER25-511-000.

Applicants: PJM Interconnection, L.L.C.

Description: 205(d) Rate Filing: Original GIA Service Agreement No. 7406; Project Identifier No. AG1-301 to be effective 10/23/2024.

Filed Date: 11/22/24.

Accession Number: 20241122-5046.

Comment Date: 5 p.m. ET 12/13/24.

Docket Numbers: ER25-512-000.

Applicants: Midcontinent Independent System Operator, Inc., Ameren Illinois Company.

Description: 205(d) Rate Filing: Midcontinent Independent System Operator, Inc. submits tariff filing per 35.13(a)(2)(iii: 2024-11-22_SA 4403 Ameren IL-Cumberland Road North Solar E&P (J1744) to be effective 11/23/2024.

Filed Date: 11/22/24.

Accession Number: 20241122-5052.

Comment Date: 5 p.m. ET 12/13/24.

Docket Numbers: ER25-513-000.

Applicants: Public Service Company of Colorado.

Description: 205(d) Rate Filing: 2024-11-22—PSC-SLVREC-Stockade Circuit 4-817-0.0.0 to be effective 1/21/2025.

Filed Date: 11/22/24.

Accession Number: 20241122-5056.

Comment Date: 5 p.m. ET 12/13/24.

Docket Numbers: ER25-514-000.

Applicants: Baltimore Gas and Electric Company, PJM Interconnection, L.L.C.

Description: 205(d) Rate Filing: Baltimore Gas and Electric Company submits tariff filing per 35.13(a)(2)(iii: BGE submits Revisions to Tariff, Attachment H-2A Clean-Up to be effective 1/1/2021.

Filed Date: 11/22/24.

Accession Number: 20241122-5066.

Comment Date: 5 p.m. ET 12/13/24.

Docket Numbers: ER25-515-000.

Applicants: PJM Interconnection, L.L.C.

Description: 205(d) Rate Filing: Original GIA & CSA, SA Nos. 7404 & 7405; Project Identifier No. AG1-511 to be effective 10/23/2024.

Filed Date: 11/22/24.

Accession Number: 20241122-5094.

Comment Date: 5 p.m. ET 12/13/24.

Docket Numbers: ER25-516-000.

Applicants: Tucson Electric Power Company.

Description: 205(d) Rate Filing: OATT Revisions to Creditworthiness Procedures to be effective 1/6/2025.

Filed Date: 11/22/24.

Accession Number: 20241122-5095.

Comment Date: 5 p.m. ET 12/13/24.

Docket Numbers: ER25-517-000.

Applicants: NGI-Kayenta II, LLC.

Description: Tariff Amendment: Notice of Cancellation of Market-Based Rate Tariff (Entire TDB) to be effective 12/22/2024.

Filed Date: 11/22/24.

Accession Number: 20241122-5096.

Comment Date: 5 p.m. ET 12/13/24.

Docket Numbers: ER25-518-000.

Applicants: Electricity Maine, LLC.

Description: Compliance filing: Revised Tariff & New Baseline to be effective 11/23/2024.

Filed Date: 11/22/24.

Accession Number: 20241122-5100.

Comment Date: 5 p.m. ET 12/13/24.

Docket Numbers: ER25-519-000.

Applicants: ISO New England Inc., New England Power Pool Participants Committee.

Description: ISO New England Inc., et. al. Filing of Installed Capacity Requirements, Hydro-Quebec Interconnection Capability Credits and Related Values for 2025-2026, 2026-2027 and 2027-2028 Annual Reconfiguration Auctions under ER25-519.

Filed Date: 11/22/24.

Accession Number: 20241122-5103.

Comment Date: 5 p.m. ET 12/13/24.

Docket Numbers: ER25-520-000.

Applicants: Electricity NH, LLC.

Description: Compliance filing: Revised Tariff and New Baseline to be effective 11/23/2024.

Filed Date: 11/22/24.

Accession Number: 20241122-5104.

Comment Date: 5 p.m. ET 12/13/24.

Docket Numbers: ER25-521-000.

Applicants: Perigee Energy, LLC.

Description: Compliance filing: Revised Tariff and New Baseline to be effective 11/23/2024.

Filed Date: 11/22/24.

Accession Number: 20241122-5108.

Comment Date: 5 p.m. ET 12/13/24.

Docket Numbers: ER25-522-000.

Applicants: Desert Quartzite, LLC.

Description: 205(d) Rate Filing: 2024-11-22 Desert Quartzite Ministerial Amendment to Cotenancy ( ) Agmt to be effective 7/22/2024.

Filed Date: 11/22/24.

Accession Number: 20241122-5111.

Comment Date: 5 p.m. ET 12/13/24.

Docket Numbers: ER25-523-000.

Applicants: Provider Power MASS, LLC.

Description: Compliance filing: Revised Tariff and New Baseline to be effective 11/23/2024.

Filed Date: 11/22/24.

Accession Number: 20241122-5114.

Comment Date: 5 p.m. ET 12/13/24.

Docket Numbers: ER25-524-000.

Applicants: Spark Energy, LLC.

Description: Compliance filing: Revised Tariff and New Baseline to be effective 11/23/2024.

Filed Date: 11/22/24.

Accession Number: 20241122-5116.

Comment Date: 5 p.m. ET 12/13/24.

Docket Numbers: ER25-525-000.

Applicants: Casselman Windpower LLC.

Description: 205(d) Rate Filing: Common Facilities Ownership and Use Agreement to be effective 10/22/2024.

Filed Date: 11/22/24.

Accession Number: 20241122-5141.

Comment Date: 5 p.m. ET 12/13/24.

Docket Numbers: ER25-527-000.

Applicants: Censtar Energy Corp.

Description: Compliance filing: Revised Market-Based Rate Tariff to be effective 11/23/2024.

Filed Date: 11/22/24.

Accession Number: 20241122-5159.

Comment Date: 5 p.m. ET 12/13/24.

Docket Numbers: ER25-528-000.

Applicants: Censtar Operating Company, LLC.

Description: Compliance filing: Revised Market-Based Rate Tariff to be effective 11/23/2024.

Filed Date: 11/22/24.

Accession Number: 20241122-5163.

Comment Date: 5 p.m. ET 12/13/24.

Docket Numbers: ER25-529-000.

Applicants: Major Energy Electric Services, LLC.

Description: Compliance filing: Revised Market-Based Rate Tariff to be effective 11/23/2024.

Filed Date: 11/22/24.

Accession Number: 20241122-5175.

Comment Date: 5 p.m. ET 12/13/24.

Docket Numbers: ER25-530-000.

Applicants: Duke Energy Carolinas, LLC.

Description: 205(d) Rate Filing: DEC-DEC PISSA SA No. 675 to be effective 11/15/2024.

Filed Date: 11/22/24.

Accession Number: 20241122-5177.

Comment Date: 5 p.m. ET 12/13/24.

Docket Numbers: ER25-531-000.

Applicants: Bakeoven Solar, LLC.

Description: 205(d) Rate Filing: Cotenancy, Common Facilities, Easement, and Development Cooperation Agreement to be effective 10/23/2024.

Filed Date: 11/22/24.

Accession Number: 20241122-5178.

Comment Date: 5 p.m. ET 12/13/24.

Docket Numbers: ER25-532-000.

Applicants: National Gas & Electric, LLC.

Description: Compliance filing: Revised Market-Based Rate Tariff to be effective 11/23/2024.

Filed Date: 11/22/24.

Accession Number: 20241122-5180.

Comment Date: 5 p.m. ET 12/13/24.

Docket Numbers: ER25-533-000.

Applicants: Oasis Power, LLC.

Description: Compliance filing: Revised Market-Based Rate Tariff to be effective 11/23/2024.

Filed Date: 11/22/24.

Accession Number: 20241122-5192.

Comment Date: 5 p.m. ET 12/13/24.

Docket Numbers: ER25-534-000.

Applicants: Daybreak Solar, LLC.

Description: 205(d) Rate Filing: Certificate of Concurrence to be effective 10/23/2024.

Filed Date: 11/22/24.

Accession Number: 20241122-5194.

Comment Date: 5 p.m. ET 12/13/24.

Docket Numbers: ER25-535-000.

Applicants: Duke Energy Florida, LLC.

Description: 205(d) Rate Filing: DEF-DEF PISSA SA No. 472 to be effective 11/15/2024.

Filed Date: 11/22/24.

Accession Number: 20241122-5197.

Comment Date: 5 p.m. ET 12/13/24.

Docket Numbers: ER25-536-000.

Applicants: Respond Power, LLC.

Description: Compliance filing: Revised Market-Based Rate Tariff to be effective 11/23/2024.

Filed Date: 11/22/24.

Accession Number: 20241122-5202.

Comment Date: 5 p.m. ET 12/13/24.

Docket Numbers: ER25-537-000.

Applicants: Verde Energy USA New York, LLC.

Description: Compliance filing: Revised Market-Based Rate Tariff to be effective 11/23/2024.

Filed Date: 11/22/24.

Accession Number: 20241122-5207.

Comment Date: 5 p.m. ET 12/13/24.

Docket Numbers: ER25-538-000.

Applicants: Placid Solar II, LLC.

Description: Baseline eTariff Filing: Placid Solar II, LLC MBR Application Filing to be effective 1/22/2025.

Filed Date: 11/22/24.

Accession Number: 20241122-5214.

Comment Date: 5 p.m. ET 12/13/24.

Docket Numbers: ER25-539-000.

Applicants: Verde Energy USA Trading, LLC.

Description: Compliance filing: Revised Market-Based Rate Tariff to be effective 11/23/2024.

Filed Date: 11/22/24.

Accession Number: 20241122-5216.

Comment Date: 5 p.m. ET 12/13/24.

Docket Numbers: ER25-540-000.

Applicants: Verde Energy USA Inc.

Description: Compliance filing: Revised Market-Based Rate Tariff to be effective 11/23/2024.

Filed Date: 11/22/24.

Accession Number: 20241122-5218.

Comment Date: 5 p.m. ET 12/13/24.

Take notice that the Commission received the following qualifying facility filings:

Docket Numbers: QF13-22-002.

Applicants: FRV Tucson Solar, LLC.

Description: Refund Report of Picture Rocks Solar, LLC.

Filed Date: 11/14/24.

Accession Number: 20241114-5296.

Comment Date: 5 p.m. ET 12/5/24.

Docket Numbers: QF13-654-002; QF13-655-002.

Applicants: Sol Orchard San Diego 23, LLC, Sol Orchard San Diego 22, LLC.

Description: Refund Report of Sol Orchard San Diego 22, LLC, et al.

Filed Date: 11/14/24.

Accession Number: 20241114-5298.

Comment Date: 5 p.m. ET 12/5/24.

Docket Numbers: QF13-656-002; QF13-653-002.

Applicants: Sol Orchard San Diego 21, LLC, Sol Orchard San Diego 20, LLC.

Description: Refund Report of Sol Orchard San Diego 20, LLC, et al.

Filed Date: 11/14/24.

Accession Number: 20241114-5297.

Comment Date: 5 p.m. ET 12/5/24.

Docket Numbers: QF15-719-003.

Applicants: Ewauna Solar 2, LLC.

Description: Refund Report of Klamath Falls Solar 2 LLC.

Filed Date: 11/14/24.

Accession Number: 20241114-5294.

Comment Date: 5 p.m. ET 12/5/24.

Docket Numbers: QF19-881-002.

Applicants: Branch Street Solar Partners LLC.

Description: Refund Report of Branch Street Solar Partners, LLC.

Filed Date: 11/14/24.

Accession Number: 20241114-5295.

Comment Date: 5 p.m. ET 12/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 22, 2024.
Debbie-Anne A. Reese,
Secretary.

[FR Doc. 2024-28089 Filed 11-29-24; 8:45 am]

BILLING CODE 6717-01-P